DEPARTMENT OF ENERGY

Federal Energy Regulatory Commission

Combined Notice of Filings #1

Take notice that the Commission received the following electric rate filings:

Docket Numbers: ER18-2118-007; ER10-1846-015; ER10-1849-021; ER10-1852-042; ER10-1887-021; ER10-1951-024; ER10-1952-020; ER10-1961-020; ER10-2551-016; ER10-2720-022; ER11-2642-016; ER11-4428-022; ER11-4462-045; ER12-1228-022; ER12-1880-021; ER12-2227-021; ER12-569-022; ER12-895-020; ER13-2474-016; ER13-712-023; ER14-2707-017; ER14-2708-018; ER14-2709-017; ER14-2710-017; ER15-1925-015; ER15-2676-014; ER15-30-015; ER15-58-015; ER16-1440-011; ER16-1672-012; ER16-2190-011; ER16-2191-011; ER16-2240-011; ER16-2241-010; ER16-2275-010; ER16-2276-010; ER16-2297-010; ER16-2453-012; ER17-2152-008; ER17-838-020; ER18-1981-006; ER18-2003-006; ER18-2032-006; ER18-2066-003; ER18-2067-004; ER18-2182-006; ER18-2314-003; ER18-882-007;ER19-1128-001; ER19-2495-002; ER19-2513-002.

Applicants: Armadillo Flats Wind Project, LLC, Blackwell Wind, LLC, Brady Interconnection, LLC, Brady Wind, LLC, Breckinridge Wind Project, LLC, Cedar Bluff Wind, LLC, Chaves County Solar, LLC, Cimarron Wind Energy, LLC, Cottonwood Wind Project, LLC, Day County Wind, LLC, Elk City Wind, LLC, Elk City Renewables II, LLC, Ensign Wind, LLC, Florida Power & Light Company, FPL Energy Cowboy Wind, LLC, FPL Energy South Dakota Wind, LLC, Gray County Wind Energy, LLC, High Majestic Wind Energy Center, LLC, High Majestic Wind II, LLC, Kingman Wind Energy I, LLC, Kingman Wind Energy II, LLC, Lorenzo Wind, LLC, Mammoth Plains Wind Project, LLC, Minco Wind, LLC, Minco Wind II, LLC, Minco Wind III, LLC, Minco Wind IV, LLC, Minco IV & V Interconnection, LLC, Minco Wind V, LLC, Ninnescah Wind Energy, LLC, NEPM II, LLC, NextEra Energy Marketing, LLC, NextEra Energy Services Massachusetts, LLC, Osborn Wind Energy, LLC, Palo Duro Wind Energy, LLC, Palo Duro Wind Interconnection Services, LLC, Pratt Wind, LLC, Roswell Solar, LLC, Rush Springs Energy Storage, LLC, Rush Springs Wind Energy, LLC, Seiling Wind, LLC, Seiling Wind II, LLC, Seiling Wind Interconnection Services, LLC, Sholes Wind Energy, LLC, Steele Flats Wind Project, LLC, Wessington Springs Wind, LLC, Wildcat Ranch Wind Project, LLC, Wilton Wind Energy II, LLC.

Description: Notification of Change in Status of NextEra Resources Entities.

Filed Date: 7/30/20.

Accession Number: 20200730-5260.

Comments Due: 5 p.m. ET 8/20/20.

Docket Numbers: ER19-1935-003.

Applicants: UNS Electric, Inc.

Description: Compliance filing: Errata to Order No. 845 Compliance Filing to be effective 5/22/2019.

Filed Date: 7/31/20.

Accession Number: 20200731-5150.

Comments Due: 5 p.m. ET 8/21/20.

Docket Numbers: ER20-1703-000.

Applicants: Capital Energy PA LLC.

Description: Second Supplement (Ownership Details) to April 30, 2020 Capital Energy PA LLC tariff filing. Also submitted Third Supplement (Asset Appendix).

Filed Date: 7/22/20; 7/31/20.

Accession Number: 20200722-5176, 20200731-5132.

Comments Due: 5 p.m. ET 8/10/20.

Docket Numbers: ER20-2559-000.

Applicants: Ameren Illinois Company, Midcontinent Independent System Operator, Inc.

Description: § 205(d) Rate Filing: 2020-07-30_SA 2880 Att A-Proj Spec No. 5 WVPA-CBEC-Kewanee Burne to be effective 9/29/2020.

Filed Date: 7/30/20.

Accession Number: 20200730-5161.

Comments Due: 5 p.m. ET 8/20/20.

Docket Numbers: ER20-2560-000.

Applicants: Sabine Cogen, LP.

Description: Tariff Cancellation: Cancellation Filing to be effective 7/31/2020.

Filed Date: 7/30/20.

Accession Number: 20200730-5165.

Comments Due: 5 p.m. ET 8/20/20.

Docket Numbers: ER20-2561-000.

Applicants: PJM Interconnection, L.L.C.

Description: § 205(d) Rate Filing: First Revised ISA, Service Agreement No. 2637; Queue No. AF1-177 to be effective 6/30/2020.

Filed Date: 7/30/20.

Accession Number: 20200730-5168.

Comments Due: 5 p.m. ET 8/20/20.

Docket Numbers: ER20-2562-000.

Applicants: Entergy Arkansas, LLC, Entergy Mississippi, LLC, Entergy New Orleans, LLC, Entergy Texas, Inc., Entergy Louisiana, LLC.

Description: § 205(d) Rate Filing: Entergy OpCos Reactive Power Update to be effective 8/1/2020.

Filed Date: 7/30/20.

Accession Number: 20200730-5181.

Comments Due: 5 p.m. ET 8/20/20.

Docket Numbers: ER20-2563-000.

Applicants: American Electric Power Service Corporation, Ohio Power Company, AEP Ohio Transmission Company, Inc., PJM Interconnection, L.L.C.

Description: § 205(d) Rate Filing: AEP submits ILDSA, SA No. 1336 and Winesburg FA to be effective 9/29/2020.

Filed Date: 7/30/20.

Accession Number: 20200730-5197.

Comments Due: 5 p.m. ET 8/20/20.

Docket Numbers: ER20-2564-000.

Applicants: Duke Energy Carolinas, LLC.

Description: § 205(d) Rate Filing: DEC-WCU Reimbursement Agreement RS-545 to be effective 10/1/2020.

Filed Date: 7/30/20.

Accession Number: 20200730-5205.

Comments Due: 5 p.m. ET 8/20/20.

Docket Numbers: ER20-2565-000.

Applicants: PJM Interconnection, L.L.C.

Description: Tariff Cancellation: Notice of Cancellation of WMPA SA No. 5318; Queue No. AD2-164 to be effective 6/29/2020.

Filed Date: 7/30/20.

Accession Number: 20200730-5209.

Comments Due: 5 p.m. ET 8/20/20.

Docket Numbers: ER20-2566-000

Applicants: PJM Interconnection, L.L.C.

Description: Tariff Cancellation: Notice of Cancellation of WMPA SA No. 5042; Queue No. AC2-045 to be effective 6/29/2020.

Filed Date: 7/30/20.

Accession Number: 20200730-5210.

Comments Due: 5 p.m. ET 8/20/20.

Docket Numbers: ER20-2567-000.

Applicants: Peetz Logan Interconnect, LLC.

Description: Baseline eTariff Filing: Peetz Logan Interconnect, LLC, Peetz Table, and Logan Wind SFA to be effective 8/28/2020.

Filed Date: 7/30/20.

Accession Number: 20200730-5219.

Comments Due: 5 p.m. ET 8/20/20.

Docket Numbers: ER20-2568-000

Applicants: PJM Interconnection, L.L.C.

Description: Tariff Cancellation: Notice of Cancellation of ISA, SA No. 3050; Queue No. S38 to be effective 6/2/2019.

Filed Date: 7/30/20.

Accession Number: 20200730-5220.

Comments Due: 5 p.m. ET 8/20/20.

Docket Numbers: ER20-2569-000.

Applicants: Pacific Gas and Electric Company.

Description: § 205(d) Rate Filing: Q2 2020 Quarterly Filing of City and County of San Francisco's WDT SA (SA 275) to be effective 6/30/2020.

Filed Date: 7/31/20.

Accession Number: 20200731-5007.

Comments Due: 5 p.m. ET 8/21/20.

Docket Numbers: ER20-2570-000.

Applicants: Midcontinent Independent System Operator, Inc, Ameren Illinois Company.

Description: § 205(d) Rate Filing: 2020-07-31_SA 3028 Ameren IL-Prairie Power Project#15 St. David Meter to be effective 9/30/2020.

Filed Date: 7/31/20.

Accession Number: 20200731-5063.

Comments Due: 5 p.m. ET 8/21/20.

Docket Numbers: ER20-2571-000.

Applicants: Midcontinent Independent System Operator, Inc, Duke Energy Indiana, LLC.

Description: § 205(d) Rate Filing: 2020-07-31_Attachment O Duke Indiana Depreciation Rate Filing to be effective 8/1/2020.

Filed Date: 7/31/20.

Accession Number: 20200731-5066.

Comments Due: 5 p.m. ET 8/21/20.

Docket Numbers: ER20-2572-000.

Applicants: Central Maine Power Company, The Connecticut Light and Power Company, NSTAR Electric Company, Public Service Company of New Hampshire, Fitchburg Gas and Electric Light Company, Green Mountain Power Corporation, Maine Electric Power Company, New England Power Company, New Hampshire Transmission, LLC, The United Illuminating Company, Unitil Energy Systems, Inc., Vermont Transco LLC, Versant Power.

Description: Order No. 864 Compliance Filing of the New England Transmission Owners.

Filed Date: 7/30/20.

Accession Number: 20200730-5262.

Comments Due: 5 p.m. ET 8/20/20.

Docket Numbers: ER20-2573-000.

Applicants: PJM Interconnection, L.L.C.

Description: § 205(d) Rate Filing: Revisions to OATT and OA re Enhancements to PJM Dispatch and Pricing to be effective 10/15/2020.

Filed Date: 7/31/20.

Accession Number: 20200731-5104.

Comments Due: 5 p.m. ET 8/21/20.

Docket Numbers: ER20-2574-000.

Applicants: Southwest Power Pool, Inc., American Electric Power Service Corporation.

Description: Compliance filing: AEP on behalf of affilate AEP West Op Cos Order 864 Compliance Filing to be effective 1/27/2020.

Filed Date: 7/31/20.

Accession Number: 20200731-5106.

Comments Due: 5 p.m. ET 8/21/20.

Docket Numbers: ER20-2575-000.

Applicants: American Electric Power Service Corporation, Southwest Power Pool, Inc.

Description: Compliance filing: AEP on behalf of affilate Transource Missouri Order No. 864 Compliance Filing to be effective 1/27/2020.

Filed Date: 7/31/20.

Accession Number: 20200731-5110.

Comments Due: 5 p.m. ET 8/21/20.

Docket Numbers: ER20-2576-000.

Applicants: Holloman Lessee LLC.

Description: Baseline eTariff Filing: Reactive Power Compensation Filing to be effective 9/29/2020.

Filed Date: 7/31/20.

Accession Number: 20200731-5113.

Comments Due: 5 p.m. ET 8/21/20.

Docket Numbers: ER20-2577-000.

Applicants: Southwest Power Pool, Inc., American Electric Power Service Corporation.

Description: Compliance filing: AEP on behalf of affilate AEP West Trans Cos. Order No. 864 Compliance Filing to be effective 1/27/2020.

Filed Date: 7/31/20.

Accession Number: 20200731-5117.

Comments Due: 5 p.m. ET 8/21/20.

Docket Numbers: ER20-2578-000.

Applicants: Southwest Power Pool, Inc.

Description: § 205(d) Rate Filing: Demand Response Programs and BTM Generation for Resource Adequacy to be effective 10/1/2020.

Filed Date: 7/31/20.

Accession Number: 20200731-5127.

Comments Due: 5 p.m. ET 8/21/20.

Docket Numbers: ER20-2579-000.

Applicants: Midcontinent Independent System Operator, Inc.

Description: § 205(d) Rate Filing: 2020-07-31_SA 2927 Duke Energy-Duke Energy 1st Rev GIA (J453 J1189) to be effective 7/17/2020.

Filed Date: 7/31/20.

Accession Number: 20200731-5128.

Comments Due: 5 p.m. ET 8/21/20.

Docket Numbers: ER20-2580-000.

Applicants: Southwest Power Pool, Inc., Western Area Power Administration.

Description: § 205(d) Rate Filing: Western Area Power Administration—UGP Region Formula Rate to be effective 10/1/2020.

Filed Date: 7/31/20.

Accession Number: 20200731-5136.

Comments Due: 5 p.m. ET 8/21/20.

Docket Numbers: ER20-2581-000.

Applicants: New England Power Pool Participants Committee.

Description: § 205(d) Rate Filing: August 2020 Membership Filing to be effective 7/1/2020.

Filed Date: 7/31/20.

Accession Number: 20200731-5142.

Comments Due: 5 p.m. ET 8/21/20.

Docket Numbers: ER20-2582-000.

Applicants: Transource West Virginia, LLC, American Electric Power Service Corporation, PJM Interconnection, L.L.C.

Description: Compliance filing: Transource WV submits Revisions to OATT, Att. H-26 re: Order 864 to be effective 1/27/2020.

Filed Date: 7/31/20.

Accession Number: 20200731-5143.

Comments Due: 5 p.m. ET 8/21/20.

Docket Numbers: ER20-2583-000.

Applicants: PJM Interconnection, L.L.C.

Description: § 205(d) Rate Filing: 2nd Quarter 2020 Update to OA and RAA Membership Lists to be effective 6/30/2020.

Filed Date: 7/31/20.

Accession Number: 20200731-5144.

Comments Due: 5 p.m. ET 8/21/20.

Docket Numbers: ER20-2584-000.

Applicants: Transource Maryland, LLC, American Electric Power Service Corporation, PJM Interconnection, L.L.C.

Description: Compliance filing: Transource MD submits Revisions to OATT, Att. H-30A re: Order 864 to be effective 1/27/2020.

Filed Date: 7/31/20.

Accession Number: 20200731-5145.

Comments Due: 5 p.m. ET 8/21/20.

Docket Numbers: ER20-2585-000.

Applicants: Transource Pennsylvania, LLC, American Electric Power Service Corporation, PJM Interconnection, L.L.C.

Description: Compliance filing: Transource PA submits Revisions to OATT, Att. H-29A re: Order 864 to be effective 1/27/2020.

Filed Date: 7/31/20.

Accession Number: 20200731-5148.

Comments Due: 5 p.m. ET 8/21/20.

Docket Numbers: ER20-2586-000.

Applicants: North Fork Ridge Wind, LLC.

Description: Baseline eTariff Filing: Market-Based Rates Tariff Application to be effective 8/1/2020.

Filed Date: 7/31/20.

Accession Number: 20200731-5151.

Comments Due: 5 p.m. ET 8/21/20.

Docket Numbers: ER20-2587-000.

Applicants: Kings Point Wind, LLC.

Description: Baseline eTariff Filing: Market-Based Rates Tariff Application to be effective 10/1/2020.

Filed Date: 7/31/20.

Accession Number: 20200731-5153.

Comments Due: 5 p.m. ET 8/21/20.

Docket Numbers: ER20-2588-000.

Applicants: PJM Interconnection, L.L.C.

Description: Tariff Cancellation: Notice of Cancellation of WMPA, SA No. 4820, Queue No. AC1-016 re: withdrawal to be effective. 6/30/2020.

Filed Date: 7/31/20.

Accession Number: 20200731-5157.

Comments Due: 5 p.m. ET 8/21/20.

Docket Numbers: ER20-2589-000.

Applicants: WPPI Energy.

Description: Baseline eTariff Filing: baseline new to be effective 10/1/2020.

Filed Date: 7/31/20.

Accession Number: 20200731-5158.

Comments Due: 5 p.m. ET 8/21/20.

Docket Numbers: ER20-2590-000.

Applicants: Basin Electric Power Cooperative.

Description: § 205(d) Rate Filing: Basin Electric Market Based Rate Application to be effective 12/31/9998.

Filed Date: 7/31/20.

Accession Number: 20200731-5164.

Comments Due: 5 p.m. ET 8/21/20.

Docket Numbers: ER20-2591-000.

Applicants: Midcontinent Independent System Operator, Inc.

Description: § 205(d) Rate Filing: 2020-07-31_Tariff revisions regarding Aggregator of Retail Customers (ARCs) to be effective 9/30/2020.

Filed Date: 7/31/20.

Accession Number: 20200731-5167.

Comments Due: 5 p.m. ET 8/21/20.

Docket Numbers: ER20-2592-000.

Applicants: WSPP Inc.

Description: § 205(d) Rate Filing: List of Members Update 2020 to be effective 7/28/2020.

Filed Date: 7/31/20.

Accession Number: 20200731-5169.

Comments Due: 5 p.m. ET 8/21/20.

Docket Numbers: ER20-2593-000.

Applicants: Tri-State Generation and Transmission Association, Inc.

Description: § 205(d) Rate Filing: Revised LGIP and SGIP to be effective 9/30/2020.

Filed Date: 7/31/20.

Accession Number: 20200731-5176.

Comments Due: 5 p.m. ET 8/21/20.

Take notice that the Commission received the following foreign utility company status filings:

Docket Numbers: FC20-14-000.

Applicants: I Squared Capital.

Description: Self-Certification of I Squared Capital.

Filed Date: 7/30/20.

Accession Number: 20200730-5244.

Comments Due: 5 p.m. ET 8/20/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2020.
Nathaniel J. Davis, Sr.,
Deputy Secretary.

[FR Doc. 2020-17191 Filed 8-5-20; 8:45 am]

BILLING CODE 6717-01-P